DEPARTMENT OF COMMERCE

International Trade Administration

[A-489-833]

Large Diameter Welded Pipe From the Republic of Türkiye: Preliminary Results and Rescission, in Part, of Antidumping Duty Administrative Review; 2022-2023

AGENCY: Enforcement and Compliance, International Trade Administration, Department of Commerce.

SUMMARY: The U.S. Department of Commerce (Commerce) preliminarily determines that large diameter welded pipe (welded pipe) from the Republic of Türkiye (Türkiye) is not being sold in the United States at less than normal value (NV) during the period of review (POR), May 1, 2022, through April 30, 2023. We are also partially rescinding this review with respect to nine companies which had no entries in the U.S. Customs and Border Protection data. We invite interested parties to comment on these preliminary results.

DATES: Applicable June 6, 2024.

FOR FURTHER INFORMATION CONTACT: Benito Ballesteros, AD/CVD Operations, Office IX, Enforcement and Compliance, International Trade Administration, U.S. Department of Commerce, 1401 Constitution Avenue NW, Washington, DC 20230; telephone: (202) 482-7425.

SUPPLEMENTARY INFORMATION:

Background

On May 2, 2019, Commerce published in the Federal Register the antidumping duty (AD) order on welded pipe from Türkiye.¹ On July 12, 2023, Commerce initiated an administrative review of the Order covering 12 companies, in accordance with section 751(a) of the Tariff Act of 1930, as amended (the Act).² On January 10, 2024, we extended the deadline for the preliminary results of this review to May 30, 2024.³

¹ See Large Diameter Welded Pipe from the Republic of Turkey: Amended Final Affirmative Antidumping Duty Determination and Antidumping Duty Order, 84 FR 18799 (May 2, 2019); and Large Diameter Welded Pipe from the Republic of Turkey: Notice of Court Decision Not in Harmony With Amended Final Determination in the Less-Than-Fair-Value Investigation; Notice of Amended Final Determination Pursuant to Court Decision; and Notice of Revocation of Antidumping Duty Order, in Part, 85 FR 35262 (June 9, 2020) (Amended Final Determination) (collectively, Order).

² See Initiation of Antidumping and Countervailing Duty Administrative Reviews, 88 FR 44262 (July 12, 2023) (Initiation Notice).

³ See Memorandum, “Extension of Deadline for Preliminary Results of Antidumping Duty Administrative Review; 2022-2023,” dated January 10, 2024.

For details regarding the events that occurred subsequent to the initiation of this review, see the Preliminary Decision Memorandum.⁴ A list of topics discussed in the Preliminary Decision Memorandum is included in as Appendix I to this notice. The Preliminary Decision Memorandum is a public document and is on file electronically via Enforcement and Compliance's Antidumping and Countervailing Duty Centralized Electronic Service System (ACCESS). ACCESS is available to registered users at https://access.trade.gov. In addition, a complete version of the Preliminary Decision Memorandum can be accessed directly at https://access.trade.gov/public/FRNoticesListLayout.aspx.

⁴ See Memorandum, “Decision Memorandum for the Preliminary Results of the Antidumping Duty Administrative Review of Large Diameter Welded Pipe from the Republic of Türkiye; 2022-2023,” dated concurrently with, and hereby adopted by, this notice (Preliminary Decision Memorandum).

Scope of the Order

The merchandise covered by the Order is welded pipe from Türkiye. For a complete description of the scope of the Order, see the Preliminary Decision Memorandum

Partial Rescission of Administrative Review

Pursuant to 19 CFR 351.213(d)(3), Commerce will rescind an administrative review when there are no entries of subject merchandise during the POR for which liquidation is suspended.⁵ Normally, upon completion of an administrative review, the suspended entries are liquidated at the AD assessment rate calculated for the review period.⁶ Therefore, for an administrative review of a company to be conducted, there must be a suspended entry that Commerce can instruct and U.S. Customs and Border Protection (CBP) to liquidate at the AD assessment rate calculated for the POR.⁷

⁵ See, e.g., Large Diameter Welded Pipe from Greece: Rescission of Antidumping Duty Administrative Review; 2022-2023, 89 FR 4274 (January 23, 2024).

⁶ See 19 CFR 351.212(b)(2).

⁷ See 19 CFR 351.213(d)(3).

On January 26, 2024, we notified parties of our intent to rescind this administrative review, in part, with respect to the nine companies listed in Appendix II because there were no suspended entries of subject merchandise produced or exported by these companies during the POR and invited interested parties to comment.⁸ No parties commented on our intent to rescind the review, in part. In the absence of any suspended entries of subject merchandise from these companies during the POR, we are rescinding the administrative review for the companies listed in Appendix II, in accordance with 19 CFR 351.213(d)(3).

⁸ See Memorandum, “Notice of Intent to Rescind Review, In Part,” dated January 26, 2024.

Methodology

Commerce is conducting this review in accordance with sections 751(a)(1) and (2) of the Act. We calculated constructed export price in accordance with section 772(b) of the Act. We calculated NV in accordance with section 773 of the Act. For a full description of the methodology underlying these preliminary results, see the Preliminary Decision Memorandum.

Rate for Company Not Selected for Individual Examination

The Act and Commerce's regulations do not address the rate to be applied to companies not selected for individual examination when Commerce limits its examination in an administrative review pursuant to section 777A(c)(2) of the Act. Generally, Commerce looks to section 735(c)(5) of the Act, which provides instructions for calculating the all-others rate in a less-than-fair value (LTFV) investigation, for guidance when calculating the rate for companies which were not selected for individual examination in an administrative review. Under section 735(c)(5)(A) of the Act, the all-others rate is normally an amount equal to the weighted average of the estimated weighted-average dumping margins established for exporters and producers individually investigated, excluding any zero or de minimis margins, and any margins determined entirely on the basis of facts available.

Where the weighted-average dumping margins for individually examined respondents are zero, de minimis, or determined based entirely on facts available, section 735(c)(5)(B) of the Act provides that Commerce may use “any reasonable method to establish the estimated all-others rate for exporters and producers not individually investigated . . .” In this review, Commerce preliminarily calculated a weighted-average dumping margin of zero percent for HDM Celik Boru Sanyai Ve Ticaret A.S (HDM).⁹ Therefore, we are preliminarily assigning a rate of zero percent to Emek Boru Makine Sanayi ve Ticaret A.S. (Emek Boru), the company not selected for individual examination in this review, in accordance with section 735(c)(5)(B) of the Act.

⁹ We note that we preliminarily assigned HDM's weighted-average dumping margin to Cimtas Boru Imalatlari ve Ticaret, Ltd. (Cimtas) pursuant to section 773(e) of the Act. For further discussion, see the Preliminary Decision Memorandum at “Cimtas' Further Manufactured U.S. Sales.”

Preliminary Results of the Review

We preliminarily determine that the following estimated weighted-average dumping margins exist for the period of May 1, 2022, through April 30, 2023:

Producer or exporter | Weighted- average dumping margin (percent)
HDM Celik Boru Sanyai Ve Ticaret A.S ¹⁰ | 0.00
Cimtas Boru Imalatlari ve Ticaret, Ltd | 0.00
Emek Boru Makine Sanayi ve Ticaret A.S | 0.00

Disclosure and Public Comment

¹⁰ Commerce initiated this review on both HDM and HDM Spiral Kaynakli Celik Boru A.S. (HDM Spiral). See Initiation Notice, 88 FR at 44269. However, in the LTFV investigation, we found that HDM acquired HDM Spiral on October 31, 2017, and HDM Spiral ceased to exist. See Large Diameter Welded Pipe from the Republic of Turkey: Preliminary Determination of Sales at Less Than Fair Value and Postponement of Final Determination, 83 FR 43646, 43647 (August 27, 2018), unchanged in Large Diameter Welded Pipe from the Republic of Turkey: Final Determination of Sales at Less Than Fair Value, 84 FR 6362 (February 27, 2019).

Commerce intends to disclose its calculations and analysis performed to interested parties for these preliminary results within five days of any public announcement or, if there is no public announcement, within five days of the date of publication of this notice in accordance with 19 CFR 351.224(b).

Interested parties may submit case briefs no later than 30 days after the date of publication of this notice.¹¹ Rebuttal briefs, limited to issues raised in case briefs, may be filed no later than five days after the date for filing case briefs.¹² Interested parties who submit case briefs or rebuttal briefs in this proceeding must submit: (1) a table of contents listing each issue; and (2) a table of authorities.¹³ All briefs must be filed electronically using ACCESS. An electronically filed document must be received successfully in its entirety in ACCESS by 5:00 p.m. Eastern Time on the established deadline.

¹¹ See 19 CFR 351.309(c)(1)(ii).

¹² See 19 CFR 351.309(d); see also Administrative Protective Order, Service, and Other Procedures in Antidumping and Countervailing Duty Proceedings, 88 FR 67069, 67077 (September 29, 2023) (APO and Service Final Rule).

¹³ See 19 CFR 351.309(c)(2) and (d)(2).

As provided under 19 CFR 351.309(c)(2) and (d)(2), in prior proceedings, we have encouraged interested parties to provide an executive summary of their brief that should be limited to five pages total, including footnotes. In this review, we instead request that interested parties provide, at the beginning of their briefs, a public executive summary for each issue raised in their briefs.¹⁴ Further, we request that interested parties limit their public executive summary of each issue to no more than 450 words, no including citations. We intend to use the public executive summaries as the basis of the comment summaries included in the issues and decision memorandum that will accompany the final results in this administrative review. We request that interested parties include footnotes for relevant citations in the public executive summary of each issue. Note that Commerce has amended certain of its requirements pertaining to the service of documents in 19 CFR 351.303(f).¹⁵

¹⁴ We use the term “issue” here to describe an argument that Commerce would normally address in a comment of the Issues and Decision Memorandum.

¹⁵ See APO and Service Final Rule.

Pursuant to 19 CFR 351.310(c), interested parties who wish to request a hearing, limited to issues raised in the case and rebuttal briefs, must submit a written request to the Assistant Secretary for Enforcement and Compliance, U.S. Department of Commerce, within 30 days after the date of publication of this notice. Requests should contain: (1) party's name, address, and telephone number; (2) the number of participants; and (3) a list of the issues to be discussed. Oral presentations at the hearing will be limited to issues raised in the briefs. If a request for a hearing is made, parties will be notified of the time and date for the hearing.¹⁶

¹⁶ See 19 CFR 351.310(d).

Assessment Rates

Upon completion of this administrative review, Commerce shall determine, and CBP shall assess, antidumping duties on all appropriate entries. The final results of this review shall be the basis for the assessment of antidumping duties on entries of merchandise covered by this review and for future deposits of estimated duties, where applicable.¹⁷ Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

¹⁷ See section 751(a)(2)(C) of the Act.

Pursuant to 19 CFR 351.212(b)(1), because HDM reported the entered value for its U.S. sales, we calculated importer-specific ad valorem antidumping duty assessment rates based on the ratio of the total amount of dumping calculated for the importer's examined sales to the total entered value of those same sales. Where either HDM's weighted-average dumping margin is zero or de minimis within the meaning of 19 CFR 351.106(c)(1), or an importer-specific rate is zero or de minimis within the meaning of 19 CFR 351.106(c)(2), we will instruct CBP to liquidate the appropriate entries without regard to antidumping duties.

Commerce's “automatic assessment” practice will apply to entries of subject merchandise during the POR produced by HDM for which it did not know that the merchandise it sold to an intermediary (e.g., a reseller, trading company, or exporter) was destined for the United States. In such instances, we will instruct CBP to liquidate those entries at the all-others rate (i.e., 1.57 percent) ¹⁸ if there is no rate for the intermediate company(ies) involved in the transaction.¹⁹

¹⁸ See Amended Final Determination, 85 FR at 35263.

¹⁹ For a full discussion of this practice, see Antidumping and Countervailing Duty Proceedings: Assessment of Antidumping Duties, 68 FR 23954 (May 6, 2003).

For both Emek Boru, the company that was not selected for individual examination, and Cimtas, we intend to assign an assessment rate equal to the weighted-average dumping margin calculated in the final results of this review for HDM.

For the companies listed in Appendix II for which we are rescinding this review, we will instruct CBP to assess antidumping duties on all appropriate entries at a rate equal to the cash deposit of estimated antidumping duties required at the time of entry, or withdrawal from warehouse, in accordance with 19 CFR 351.212(c)(l)(i). Commerce intends to issue these rescission instructions to CBP no earlier than 35 days after the date of publication of this notice in the Federal Register.

Cash Deposit Requirements

The following cash deposit requirements will be effective for all shipments of the subject merchandise entered, or withdrawn from warehouse, for consumption on or after the publication date of the final results of this administrative review, as provided by section 751(a)(2)(C) of the Act: (1) the cash deposit rate for the companies listed above will be equal to the weighted-average dumping margin established in the final results of this review, except if the rate is de minimis (i.e., less than 0.50 percent), in which case the cash deposit rate will be zero; (2) for previously reviewed or investigated companies not covered by this review, the cash deposit rate will continue to be the company-specific rate published for the most recently-completed segment of this proceeding in which they were examined; (3) if the exporter is not a firm covered in this review, a prior review, or the LTFV investigation, but the producer is, the cash deposit rate will be the rate established for the most recently-completed segment of this proceeding for the producer of the merchandise; and (4) the cash deposit rate for all other producers or exporters will continue to be 1.57 percent, the all-others rate established in the Amended Final Determination.²⁰

²⁰ See Amended Final Determination, 85 FR at 35263.

These cash deposit requirements, when imposed, shall remain in effect until further notice.

Final Results of Review

Unless otherwise extended, Commerce intends to issue the final results of this administrative review including the results of its analysis of issues raised in written briefs, no later than 120 days after the date of publication of this notice in the Federal Register, pursuant to 751(a)(3)(A) of the Act and 19 CFR 351.213(h)(1).

Notification to Importers

This notice also serves as a preliminary reminder to importers of their responsibility under 19 CFR 351.402(f)(2) to file a certificate regarding the reimbursement of antidumping and/or countervailing duties prior to liquidation of the relevant entries during this review period. Failure to comply with this requirement could result in Commerce's presumption that reimbursement of antidumping and/or countervailing duties occurred and the subsequent assessment of double antidumping duties, and/or an increase in the amount of antidumping duties by the amount of the countervailing duties.

Notification to Interested Parties

We are issuing and publishing these results in accordance with sections 751(a)(1) and 777(i)(1) of the Act, 19 CFR 351.213, and 351.221(b)(4).

Dated: May 30, 2024.
Abdelali Elouaradia,
Deputy Assistant Secretary for Enforcement and Compliance.

Appendix I

List of Topics Discussed in the Preliminary Decision Memorandum

I. Summary

II. Background

III. Scope of the Order

IV. Cimtas' Further Manufactured U.S. Sales

V. Discussion of the Methodology

VI. Currency Conversion

VII. Recommendation

Appendix II

Companies for Which Commerce Is Rescinding This Review

1. Cagil Makina San ve Tic A.S.

2. Erciyas Celik Boru Sanayi A.S.

3. Mazlum Mangtay Boru Son. Ins. Tar. Urn. San. ve Tic. A.S.

4. Noksel Celik Boru Sanayi A.S.

5. Ozbal Celik Boru San. Tic. Ve TAAH A.S.

6. Spirally Welded Steel Pipe Inc.

7. Toscelik Profil ve Sac End. A.S.

8. Toscelik Spiral Boru Uretim A.S.

9. Umran Celik Boru Sanayii A.S.

[FR Doc. 2024-12406 Filed 6-5-24; 8:45 am]

BILLING CODE 3510-DS-P